OFFICE OF PERSONNEL MANAGEMENT

Excepted Service

AGENCY: Office of Personnel Management (OPM).

ACTION: Notice.

SUMMARY: This notice identifies Schedule A, B, and C appointing authorities applicable to a single agency that were established or revoked from November 1, 2021 to November 30, 2021.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during November 2021.

Schedule B

No Schedule B Authorities to report during November 2021.

Schedule C

The following Schedule C appointing authorities were approved during November 2021.

Agency name | Organization name | Position title | Authorization No. | Effective date
DEPARTMENT OF AGRICULTURE | Office of Under Secretary for Natural Resources and Environment | Confidential Assistant | DA220015 | 11/05/2021
| Farm Service Agency | Confidential Assistant | DA220016 | 11/05/2021
|  | State Executive Director—Alabama | DA220020 | 11/18/2021
|  | State Executive Director—Colorado | DA220023 | 11/29/2021
|  | State Executive Director—Delaware | DA220022 | 11/18/2021
|  | State Executive Director—Iowa | DA220014 | 11/18/2021
| National Institute of Food and Agriculture | Senior Advisor | DA220018 | 11/05/2021
| Office of the General Counsel | Confidential Assistant | DA220027 | 11/30/2021
| Office of Rural Development | State Director—Iowa | DA220013 | 11/18/2021
DEPARTMENT OF COMMERCE | Bureau of Industry and Security | Congressional Affairs Specialist | DC220011 | 11/05/2021
| Bureau of the Census | Chief of Congressional Affairs | DC220009 | 11/05/2021
| National Oceanic and Atmospheric Administration | Special Assistant | DC210123 | 11/05/2021
| National Telecommunications and Information Administration | Senior Advisor | DC220010 | 11/05/2021
| Office of Legislative and Intergovernmental Affairs | Director for Oversight | DC220008 | 11/05/2021
| Office of Policy and Strategic Planning | Senior Policy Advisor | DC220007 | 11/05/2021
DEPARTMENT OF DEFENSE | Office of the Assistant Secretary of Defense (Legislative Affairs) | Special Assistant | DD220015 | 11/15/2021
| Office of the Director (Cost Assessment and Program Evaluation) | Special Assistant | DD220017 | 11/17/2021
| Washington Headquarters Services | Defense Fellow (4) | DD220013 DD220011 DD220014 DD220016 | 11/11/2021 11/17/2021 11/17/2021 11/17/2021
DEPARTMENT OF THE AIR FORCE | Office of Assistant Secretary Air Force for Financial Management and Comptroller | Special Assistant | DF220003 | 11/19/2021
DEPARTMENT OF EDUCATION | Office of the Secretary | Director, Strategic Partnerships | DB220003 | 11/09/2021
| Office for Civil Rights | Deputy Assistant Secretary for Legal Affairs | DB220002 | 11/11/2021
DEPARTMENT OF ENERGY | Office of Management Office of Policy | Director of Advance Chief of Staff | DE220003 DE220005 | 11/05/2021 11/05/2021
GENERAL SERVICES ADMINISTRATION | Office of Congressional and Intergovernmental Affairs | Deputy Associate Administrator for Policy (2) | GS220004 GS220005 | 11/15/2021 11/18/2021
DEPARTMENT OF HEALTH AND HUMAN SERVICES | Office of Administration for Children and Families | Special Assistant | DH220022 | 11/15/2021
| Office of Intergovernmental and External Affairs | Director, Center for Faith-Based and Neighborhood Partnerships | DH220021 | 11/15/2021
|  | Regional Director, New York, NY, Region II | DH220016 | 11/15/2021
|  | Regional Director, San Francisco, CA, Region IX | DH220012 | 11/01/2021
|  | Regional Director, Seattle, WA, Region X | DH220011 | 11/10/2021
| Office of the Assistant Secretary for Administration | Senior Advisor for Strategic Initiatives | DH220017 | 11/15/2021
DEPARTMENT OF HOMELAND SECURITY | Office of Strategy, Policy, and Plans | Managing Director for Strategy Office of Cyber, Infrastructure, Risk, and Resilience | DM220015 | 11/26/2021
DEPARTMENT OF HOUSING AND URBAN DEVELOPMENT | Office of Field Policy and Management | Regional Administrator (3) | DU220009 DU220008 DU220011 | 11/16/2021 11/22/2021 11/24/2021
| Office of the General Counsel | Senior Counsel | DU220007 | 11/24/2021
DEPARTMENT OF THE INTERIOR | Secretary's Immediate Office | Advance Representative Senior Advisor | DI220001 DI220007 | 11/02/2021 11/22/2021
DEPARTMENT OF JUSTICE | Office of Justice Programs | Senior Policy Advisor (2) | DJ220013 DJ220018 | 11/19/2021 11/30/2021
| Office of Environment and Natural Resources Division | Chief of Staff and Senior Counsel | DJ220019 | 11/30/2021
DEPARTMENT OF LABOR | Office of the Secretary | Travelling Special Assistant | DL220010 | 11/09/2021
| Office of Federal Contract Compliance Programs | Senior Advisor | DL220004 | 11/22/2021
| Office of Congressional and Intergovernmental Affairs | Legislative Officer | DL220009 | 11/22/2021
NATIONAL AERONAUTICS AND SPACE ADMINISTRATION | Office of the Administrator | White House Liaison | NN220004 | 11/10/2021
UNITED STATES INTERNATIONAL DEVELOPMENT FINANCE CORPORATION | Overseas Private Investment Corporation | Special Assistant | PQ220001 | 11/24/2021
DEPARTMENT OF STATE | Office of the Under Secretary for Civilian Security, Democracy, and Human Rights | Deputy Special Envoy to Monitor and Combat Anti-Semitism | DS220006 | 11/16/2021
DEPARTMENT OF TRANSPORTATION | Office of the Assistant Secretary for Transportation Policy | Labor Policy Advisor | DT220010 | 11/29/2021
DEPARTMENT OF THE TREASURY | Office of the Assistant Secretary for Terrorist Financing | Special Assistant | DY220006 | 11/18/2021

The following Schedule C appointing authorities were revoked during November 2021.

Agency name | Organization name | Position title | Request No. | Vacate date
DEPARTMENT OF EDUCATION | Office of Planning, Evaluation and Policy Development | Special Assistant | DB210054 | 11/20/2021
| Office of the Secretary | Confidential Assistant | DB210070 | 11/05/2021
DEPARTMENT OF JUSTICE | Office of the Associate Attorney General | Chief of Staff | DJ210132 | 11/20/2021
NATIONAL AERONAUTICS AND SPACE ADMINISTRATION | Office of the Administrator | White House Liaison Special Assistant for Operations | NN210017 NN210060 | 11/06/2021 11/20/2021

Authority: 5 U.S.C. 3301 and 3302; E.O. 10577, 3 CFR, 1954-1958 Comp., p. 218.

Office of Personnel Management.
Stephen Hickman,
Federal Register Liaison.

[FR Doc. 2022-15895 Filed 7-25-22; 8:45 am]

BILLING CODE 6325-39-P